DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form Number, and OMB Number: Pharmacy Redesign Pilot Program; DD Form 2814; OMB Number 0720-0023.

Type of Request: Extension.

Number of Respondents: 2,000.

Responses Per Respondent: 1.

Annual Responses: 2,000.

Average Burden Per Response: 10 minutes.

Annual Burden Hours: 333.

Needs and Uses: The collection instrument serves as an application form for enrollment in the TRICARE Pharmacy Redesign Pilot Program. The information collected will be used to provide the Managed Care Support Contractors, contracted to supply administrative support, with data to determine beneficiary eligibility, other health insurance liability, and premium payment. An eligible beneficiary for the pharmacy redesign demonstration is a member or former member of the uniformed services as described in section 1074(b) of title 10; a dependent of the member described in section 1076(a)(2)(B) or 1076(b) of title 10; or a dependent of a member of the uniformed services who died while on active duty for a period of more than 30 days, who meets the following requirements: (a) 65 years of age or older; (b) entitled to Medicare Part A, (c) enrolled in Medicare Part B, and (d) resides in an implementation area. The Department of Defense component responsible for the conduct of the project is the TRICARE Management Activity.

Affected Public: Individuals or households.

Frequency: On occasion; annually.

Respondent's Obligation: Required to Obtain or Retain Benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Patricia L. Toppings;
Alternate OSD Federal Register Liaison Officer, Department of Defense.

[FR Doc. 00-12187 Filed 5-15-00; 8:45 am]

BILLING CODE 5001-10-M